DEPARTMENT OF TRANSPORTATION

Federal Aviation Administration

14 CFR Part 71

[Docket No. FAA-2018-0464 Airspace Docket No. 18-AGL-12]

RIN 2120-AA66

Proposed Amendment of V-97 and V-422 in the Vicinity of Chicago, IL

AGENCY: Federal Aviation Administration (FAA), DOT.

ACTION: Notice of proposed rulemaking (NPRM).

SUMMARY: This action proposes to modify two VHF Omnidirectional Range (VOR) Federal airways (V-97 and V-422) in the vicinity of the Chicago, IL. The FAA is proposing this action due to the planned decommissioning of the Chicago O'Hare, IL, VOR/Distance Measuring Equipment (VOR/DME) navigation aid (NAVAID), which provides navigation guidance for portions of the affected Air Traffic Service (ATS) routes. The Chicago O'Hare VOR/DME is being decommissioned to facilitate the construction of a new runway at Chicago O'Hare International Airport.

DATES: Comments must be received on or before July 13, 2018.

ADDRESSES: Send comments on this proposal to the U.S. Department of Transportation, Docket Operations, 1200 New Jersey Avenue SE, West Building Ground Floor, Room W12-140, Washington, DC 20590; telephone: 1 (800) 647-5527, or (202) 366-9826. You must identify FAA Docket No. FAA-2018-0464; Airspace Docket No. 18-AGL-12 at the beginning of your comments. You may also submit comments through the internet at http://www.regulations.gov.

FAA Order 7400.11B, Airspace Designations and Reporting Points, and subsequent amendments can be viewed online at http://www.faa.gov/air_traffic/publications/. For further information, you can contact the Airspace Policy Group, Federal Aviation Administration, 800 Independence Avenue SW, Washington, DC 20591; telephone: (202) 267-8783. The Order is also available for inspection at the National Archives and Records Administration (NARA). For information on the availability of FAA Order 7400.11B at NARA, call (202) 741-6030, or go to https://www.archives.gov/federal-register/cfr/ibr-locations.html.

FAA Order 7400.11, Airspace Designations and Reporting Points, is published yearly and effective on September 15.

FOR FURTHER INFORMATION CONTACT: Colby Abbott, Airspace Policy Group, Office of Airspace Services, Federal Aviation Administration, 800 Independence Avenue SW, Washington, DC 20591; telephone: (202) 267-8783.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it would amend the route structure in the Chicago, IL, area as necessary to preserve the safe and efficient flow of air traffic within the National Airspace System.

Comments Invited

Interested parties are invited to participate in this proposed rulemaking by submitting such written data, views, or arguments as they may desire. Comments that provide the factual basis supporting the views and suggestions presented are particularly helpful in developing reasoned regulatory decisions on the proposal. Comments are specifically invited on the overall regulatory, aeronautical, economic, environmental, and energy-related aspects of the proposal.

Communications should identify both docket numbers (FAA Docket No. FAA-2018-0464; Airspace Docket No. 18-AGL-12) and be submitted in triplicate to the Docket Management Facility (see ADDRESSES section for address and phone number). You may also submit comments through the internet at http://www.regulations.gov.

Commenters wishing the FAA to acknowledge receipt of their comments on this action must submit with those comments a self-addressed, stamped postcard on which the following statement is made: “Comments to FAA Docket No. FAA-2018-0464; Airspace Docket No. 18-AGL-12.” The postcard will be date/time stamped and returned to the commenter.

All communications received on or before the specified comment closing date will be considered before taking action on the proposed rule. The proposal contained in this action may be changed in light of comments received. All comments submitted will be available for examination in the public docket both before and after the comment closing date. A report summarizing each substantive public contact with FAA personnel concerned with this rulemaking will be filed in the docket.

Availability of NPRMs

An electronic copy of this document may be downloaded through the internet at http://www.regulations.gov. Recently published rulemaking documents can also be accessed through the FAA's web page at http://www.faa.gov/air_traffic/publications/airspace_amendments/.

You may review the public docket containing the proposal, any comments received and any final disposition in person in the Dockets Office (see ADDRESSES section for address and phone number) between 9:00 a.m. and 5:00 p.m., Monday through Friday, except Federal holidays. An informal docket may also be examined during normal business hours at the office of the Operations Support Group, Central Service Center, Federal Aviation Administration, 10101 Hillwood Blvd., Fort Worth, TX 76177.

Availability and Summary of Documents for Incorporation by Reference

This document proposes to amend FAA Order 7400.11B, Airspace Designations and Reporting Points, dated August 3, 2017, and effective September 15, 2017. FAA Order 7400.11B is publicly available as listed in the ADDRESSES section of this document. FAA Order 7400.11B lists Class A, B, C, D, and E airspace areas, air traffic service routes, and reporting points.

Background

The FAA is planning to decommission the Chicago O'Hare, IL, VOR/DME in January 2019 in support of construction activities for a new runway at Chicago O'Hare International Airport.

With the planned decommissioning of the Chicago O'Hare VOR/DME, the NAVAID radial used to define the BEBEE fix, located southeast of Chicago O'Hare International Airport, would no longer be available; thus, making the fix unusable. In lieu of redefining the BEBEE fix with another NAVAID remaining in the area, the FAA is proposing to remove the 2 nautical mile airway segment between the BEBEE and NILES fixes from the V-97 and V-422 descriptions.

The airway segment between the BEBEE and NILES fixes overlays V-7, so removal of the airway segment from V-97 and V-422 would be mitigated by V-7 remaining unchanged and appear transparent to instrument flight rules traffic navigating through the area. Similarly, visual flight rules pilots who elect to navigate via the airways through the affected area would be unaffected and able to continue using V-7 in the area.

Additionally, the KRENA fix, located northwest of Chicago O'Hare International Airport, is defined in the V-97 description as the intersection of the Northbrook, IL, VOR/DME 291° and Janesville, WI, VOR/DME 112° radials, which is virtually a straight line. The FAA proposes to redefine the fix in its current location using radials from the DuPage, IL, VOR/DME and Janesville, WI, VOR/DME NAVAIDs to better define the fix using intersecting radials.

The Proposal

The FAA is proposing an amendment to Title 14, Code of Federal Regulations (14 CFR) part 71 to modify the descriptions of VOR Federal airways V-97 and V-422. The planned decommissioning of the Chicago O'Hare, IL, VOR/DME has made these actions necessary. The proposed VOR Federal airway changes are described below.

V-97: V-97 currently extends between the Dolphin, FL, VOR/Tactical Air Navigation (VORTAC) and the intersection of the Chicago Heights, IL, VORTAC 358° and Chicago O'Hare, IL, VOR/DME 127° radials (BEBEE fix), and between the intersection of the Northbrook, IL, VOR/DME 291° and Janesville, WI, VOR/DME 112° radials (KRENA fix) and the Gopher, MN, VORTAC. The airspace below 2,000 feet MSL outside the United States is excluded. The FAA proposes to remove the airway segment between the intersection of the Chicago Heights, IL, VORTAC 358°(T)/356°(M) and DuPage, IL, VOR/DME 101°(T)/099°(M) radials (NILES fix) and the intersection of the Chicago Heights, IL, VORTAC 358° and Chicago O'Hare, IL, VOR/DME 127° radials (BEBEE fix). Also, the KRENA fix would be redefined in its existing location using the intersection of the DuPage, IL, VOR/DME 347°(T)/345°(M) and Janesville, WI, VOR/DME 112°(T)/109°(M) radials. The unaffected portions of the existing airway would remain as charted.

V-422: V-422 currently extends between the intersection of the Chicago O'Hare, IL, VOR/DME 127° and Chicago Heights, IL, VORTAC 358° radials (BEBEE fix) and the Flag City, OH, VORTAC. The FAA proposes to remove the airway segment between the intersection of the Chicago Heights, IL, VORTAC 358° and Chicago O'Hare, IL, VOR/DME 127° radials (BEBEE fix) and the intersection of the Chicago Heights, IL, VORTAC 358°(T)/356°(M) and DuPage, IL, VOR/DME 101°(T)/099°(M) radials (NILES fix). The unaffected portions of the existing airway would remain as charted.

All radials in the route descriptions below that are unchanged are stated in True degrees. Radials that are stated in True and Magnetic degrees are new computations based on available NAVAIDS.

Lastly, a minor editorial correction would be made to the V-97 airway description to correct the state abbreviation for the Cincinnati, KY, VORTAC. The “Cincinnati, OH” airway point listed would be changed to “Cincinnati, KY”.

VOR Federal airways are published in paragraph 6010(a) of FAA Order 7400.11B dated August 3, 2017, and effective September 15, 2017, which is incorporated by reference in 14 CFR 71.1. The VOR Federal airways listed in this document would be subsequently published in the Order.

Regulatory Notices and Analyses

The FAA has determined that this proposed regulation only involves an established body of technical regulations for which frequent and routine amendments are necessary to keep them operationally current. It, therefore: (1) Is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that will only affect air traffic procedures and air navigation, it is certified that this proposed rule, when promulgated, will not have a significant economic impact on a substantial number of small entities under the criteria of the Regulatory Flexibility Act.

Environmental Review

This proposal will be subject to an environmental analysis in accordance with FAA Order 1050.1F, “Environmental Impacts: Policies and Procedures” prior to any FAA final regulatory action.

List of Subjects in 14 CFR Part 71

Airspace, Incorporation by reference, Navigation (air).

The Proposed Amendment

In consideration of the foregoing, the Federal Aviation Administration proposes to amend 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of FAA Order 7400.11B, Airspace Designations and Reporting Points, dated August 3, 2017 and effective September 15, 2017, is amended as follows:

Paragraph 6010(a) Domestic VOR Federal Airways.

* * * * *

V-97 [Amended]

From Dolphin, FL; La Belle, FL; St. Petersburg, FL; Seminole, FL; Pecan, GA; Atlanta, GA; INT Atlanta 001° and Volunteer, TN, 197° radials; Volunteer; London, KY; Lexington, KY; Cincinnati, KY; Shelbyville, IN; INT Shelbyville 313° and Boiler, IN, 136° radials; Boiler; Chicago Heights, IL; to INT Chicago Heights 358°(T)/356°(M) and DuPage, IL, 101°(T)/099°(M) radials. From INT DuPage, IL, 347°(T)/345°(M) and Janesville, WI, 112°(T)/109°(M) radials; Janesville; Lone Rock, WI; Nodine, MN; to Gopher, MN. The airspace below 2,000 feet MSL outside the United States is excluded.

* * * * *

V-422 [Amended]

From INT DuPage, IL, 101°(T)/099°(M) and Chicago Heights, IL, 358°(T)/356°(M) radials; Chicago Heights; INT Chicago Heights 117° and Knox, IN, 276° radials; Knox; Webster Lake, IN; INT Webster Lake 097° and Flag City, OH, 289° radials; to Flag City.

Issued in Washington, DC, on May 21, 2018.
Rodger A. Dean Jr.,
Manager, Airspace Policy Group.

[FR Doc. 2018-11329 Filed 5-25-18; 8:45 am]

BILLING CODE 4910-13-P